DEPARTMENT OF THE TREASURY

Office of Thrift Supervision

[No. 2007-32]

2007-2012 Strategic Plan Notice; Request for Comments

AGENCY: Office of Thrift Supervision (OTS), Treasury.

ACTION: Notice and request for comment.

SUMMARY: The Office of Thrift Supervision (OTS) updates its Strategic Plan every three years. The mission and strategic goals contained in the Plan support statutory and regulatory requirements, current and long-range industry issues, and long-range strategic objectives. The goals and objectives are implemented through annual Performance Plans. OTS requests comments on its draft 2007-2012 Strategic Plan. The draft Plan is available on the OTS Internet Site at http://www.ots.treas.gov under “About OTS: Plans and Reports”.

DATES: Comments must be submitted by July 20, 2007.

ADDRESSES:

Mail: Send comments to: Strategic Plan Comments, Chief Financial Officer, Office of Thrift Supervision, 1700 G Street, NW., Washington, DC 20552, Attention: Wayne G. Leiss. Commenters may prefer to make their comments via e-mail, or hand delivery.

Delivery: Hand deliver comments to the Guard's Desk, East Lobby Entrance, 1700 G Street, NW., from 9 a.m. to 4 p.m. on business days, Attention: Strategic Plan Comments, Wayne G. Leiss, Chief Financial Officer.

E-Mail: Send e-mails to Wayne.Leiss@ots.treas.gov. Subject: Strategic Plan Comments and include your name and telephone number.

FOR FURTHER INFORMATION CONTACT: Anita C. Tyndall, (202) 906-6458, Planning, Budget and Finance, Office of Thrift Supervision, 1700 G Street, NW., Washington, DC 20552.

Dated: June 26, 2007.
By the Office of Thrift Supervision.
John M. Reich,
Director.

[FR Doc. E7-13057 Filed 7-5-07; 8:45 am]

BILLING CODE 6720-01-P